DEPARTMENT OF LABOR

Mine Safety and Health Administration

Notice of Affirmative Decisions on Petitions for Modification Granted in Whole or in Part

AGENCY: Mine Safety and Health Administration (MSHA), Labor.

ACTION: Notice of Affirmative Decisions on Petitions for Modification Granted in Whole or in Part.

SUMMARY: The Mine Safety and Health Administration (MSHA) enforces mine operator compliance with mandatory safety and health standards that protect miners and improve safety and health conditions in U.S. mines. This Federal Register Notice (FR Notice) notifies the public that it has investigated and issued a final decision on certain mine operator petitions to modify a safety standard.

ADDRESSES: Copies of the final decisions are posted on MSHA's Web site at http://www.msha.gov/indexes/petition.htm. The public may inspect the petitions and final decisions during normal business hours in MSHA's Office of Standards, Regulations and Variances, 1100 Wilson Boulevard, Room 2349, Arlington, Virginia 22209. All visitors must first stop at the receptionist desk on the 21st Floor to sign in.

FOR FURTHER INFORMATION CONTACT: Roslyn B. Fontaine, Acting Deputy Director, Office of Standards, Regulations and Variances at 202-693-9475 (Voice), fontaine.roslyn@dol.gov (E-mail), or 202-693-9441 (Telefax), or Barbara Barron at 202-693-9447 (Voice), barron.barbara@dol.gov (E-mail), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2007-054-C.

FR Notice: 72 FR 53265 (September 18, 2007).

Petitioner: Chestnut Coal Company, RR 3, Box 142, Sunbury, Pennsylvania 17801.

Mine: No. 13 Slope (Formerly No. 11 Slope), MSHA I.D. No. 36-09475, located in Northumberland County, Pennsylvania.

Regulation Affected: 30 CFR 75.1100-2(a)(2) (Quantity and location of firefighting equipment).

• Docket Number: M-2008-011-C.

FR Notice: 73 FR 20066 (April 14, 2008).

Petitioner: Chevron Mining, Inc., 12398 New Lexington Road, Berry, Alabama 35546.

Mine: North River No. 1 Mine, MSHA I.D. 01-00759, located in Fayette County, Alabama.

Regulation Affected: 30 CFR 75.507 (Power connection points).

• Docket Number: M-2008-032-C.

FR Notice: 73 FR 38250 (July 3, 2008).

Petitioner: Double Bonus Coal Company, P.O. Box 414, Pineville, West Virginia 24874.

Mine: No. 65 Mine, MSHA I.D. 46-09020, located in Wyoming County, West Virginia.

Regulation Affected: 30 CFR 75.1101-1(b) (Deluge-type water spray systems).

• Docket Number: M-2008-033-C.

FR Notice: 73 FR 42599 (July 22, 2008).

Petitioner: Penn View Mining Company, Inc., 2340 Smith Road, Shelocta, Pennsylvania 15774.

Mine: TJS #6 Mine, MSHA I.D. No. 36-09464, located in Armstrong County, Pennsylvania.

Regulation Affected: 30 CFR 75.503 (30 CFR 18.35) (Permissible electric equipment; maintenance).

• Docket Number: M-2008-039-C.

FR Notice: 73 FR 54434 (September 19, 2008).

Petitioner: AMFIRE Mining Company, LLC, One Energy Place, Latrobe, Pennsylvania 15650.

Mine: Dora 8 Mine, MSHA I.D. No. 36-08704, located in Jefferson County, Pennsylvania.

Regulation Affected: 30 CFR 75.1101-1(b) (Deluge-type water spray systems).

• Docket Number: M-2008-040-C.

FR Notice: 73 FR 54434 (September 19, 2008).

Petitioner: AMFIRE Mining Company, LLC, One Energy Place, Latrobe, Pennsylvania 15650.

Mine: Madison Mine, MSHA I.D. No. 36-09127, located in Cambria County, Pennsylvania.

Regulation Affected: 30 CFR 75.1101-1(b) (Deluge-type water spray systems).

• Docket Number: M-2008-041-C.

FR Notice: 73 FR 54434 (September 19, 2008).

Petitioner: AMFIRE Mining Company, LLC, One Energy Place, Latrobe, Pennsylvania 15650.

Mine: Gillhouser Run Mine, MSHA I.D. No. 36-09033, located in Indiana County, Pennsylvania.

Regulation Affected: 30 CFR 75.1101-1(b) (Deluge-type water spray systems).

• Docket Number: M-2008-042-C.

FR Notice: 73 FR 54434 (September 19, 2008).

Petitioner: AMFIRE Mining Company, LLC, One Energy Place, Latrobe, Pennsylvania 15650.

Mine: Ondo Extension Mine, MSHA I.D. No. 36-09005, located in Indiana County, Pennsylvania.

Regulation Affected: 30 CFR 75.1101-1(b) (Deluge-type water spray systems).

• Docket Number: M-2008-0043-C.

FR Notice: 73 FR 54434 (September 19, 2008).

Petitioner: AMFIRE Mining Company, LLC, One Energy Place, Latrobe, Pennsylvania 15650.

Mine: Nolo Mine, MSHA I.D. No. 36-08850, located in Indiana County, Pennsylvania.

Regulation Affected: 30 CFR 75.1101-1(b) (Deluge-type water spray system).

• Docket Number: M-2008-045-C.

FR Notice: 73 FR 61913 (October 17, 2008).

Petitioner: Guest Mountain Mining Corporation, P.O. Box 2560, Wise, Virginia 24293.

Mine: Mine No. 4, MSHA I.D. No. 44-05815, located in Wise County, Virginia.

Regulation Affected: 30 CFR 77.214(a) (Refuse piles; general).

• Docket Number: M-2008-048-C.

FR Notice: 73 FR 69680 (November 19, 2008).

Petitioner: Mountain Edge Mining, Inc., P.O. Box, 2226, Beckley, West Virginia 25802-2226.

Mine: Coalburg No. 1 Mine, I.D. No. 46-09082, located in Boone County, West Virginia.

Regulation Affected: 30 CFR 75.1002 (Installation of electric equipment and conductors; permissibility).

• Docket Number: M-2008-049-C.

FR Notice: 73 FR 80434 (December 31, 2008).

Petitioner: Knight Hawk Coal, LLC, 7290 County Line Road, Cutler, Illinois 62238.

Mine: Prairie Eagle South Mine, MSHA I.D. 11-03205, located in Perry County, Illinois.

Regulation Affected: 30 CFR 75.503 (30 CFR 18.35) (Permissible electric equipment; maintenance).

• Docket Number: M-2008-050-C.

FR Notice: 73 FR 80434 (December 31, 2008).

Petitioner: River View Coal, LLC, 835 State Route 1179, Waverly, Kentucky 42462.

Mine: River View Mine, MSHA I.D. 15-03178 (New MSHA I.D. No. 15-19374), located in Union County, Kentucky.

Regulation Affected: 30 CFR 75.1700 (Oil and gas wells).

• Docket Number: M-2008-051-C.

FR Notice: 73 FR 80434 (December 31, 2008).

Petitioner: River View Coal, LLC, 835 State Route 1179, Waverly, Kentucky 42462.

Mine: River View Mine, MSHA I.D. 15-03178 (New MSHA I.D. No. 15-19374), located in Union County, Kentucky.

Regulation Affected: 30 CFR 75.503 (30 CFR 18.35) (Permissible electric equipment; maintenance).

• Docket Number: M-2008-056-C.

FR Notice: 74 FR 4470 (January 26, 2009).

Petitioner: Midland Trail Energy, LLC, 42 Rensford Star Route, Charleston, West Virginia 25306.

Mine: Blue Creek No. 1 Mine, MSHA I.D. 46-09297; and Blue Creek No. 2 Mine, MSHA I.D. No. 46-09296, located in Kanawha County, West Virginia.

Regulation Affected: 30 CFR 75.900 (Low- and medium-voltage circuits serving three-phase alternating current equipment; circuit breakers).

• Docket Number: M-2008-057-C.

FR Notice: 74 FR 4471 (January 26, 2009).

Petitioner: Midland Trail Energy, LLC, 42 Rensford Star Route, Charleston, West Virginia 25306.

Mine: Blue Creek No. 1 Mine, MSHA I.D. 46-09297, and Blue Creek No. 2 Mine, MSHA I.D. No. 46-09296, located in Kanawha County, West Virginia.

Regulation Affected: 30 CFR 75.1002 (Installation of electric equipment and conductors; permissibility).

• Docket Number: M-2008-006-M.

FR Notice: 74 FR 4471 (January 26, 2009).

Petitioner: Solvay Chemicals, Inc., P.O. Box 1167, Green River, Wyoming 82935.

Mine: Solvay Chemicals Mine, MSHA I.D. 48-01295, located in Sweetwater County, Wyoming.

Regulation Affected: 30 CFR 57.22305 (Approved equipment (III mines)).

Dated: November 27, 2009.
Patricia W. Silvey,
Director, Office of Standards, Regulations and Variances.

[FR Doc. E9-28849 Filed 12-2-09; 8:45 am]

BILLING CODE 4510-43-P